DEPARTMENT OF THE INTERIOR

Fish and Wildlife Service

Catahoula National Wildlife Refuge

AGENCY: Fish and Wildlife Service, Interior.

ACTION: Notice of intent to prepare a Comprehensive Conservation Plan and Environmental Assessment for Catahoula National Wildlife Refuge in LaSalle and Catahoula Parishes, Louisiana

SUMMARY: This notice advises the public that the Fish and Wildlife Service, Southeast Region, intends to gather information necessary to prepare a Comprehensive Conservation Plan and Environmental Assessment for Catahoula National Wildlife Refuge, pursuant to the National Environmental Policy Act and its implementing regulations.

The National Wildlife Refuge System Administration Act of 1966, as amended by the National Wildlife Refuge System Improvement Act of 1997, requires the Service to develop a comprehensive conservation plan for each national wildlife refuge. The purpose in developing a comprehensive conservation plan is so provide refuge managers with a 15-year strategy for achieving refuge purposes and contributing toward the mission of the National Wildlife Refuge System, consistent with sound principles of fish and wildlife management, conservation, legal mandates, and Service policies. In addition to outlining broad management direction on conserving wildlife and their habitats, the plan identifies wildlife-dependent recreational opportunities available to the public, including opportunities for hunting, fishing, wildlife observation, wildlife photography, and environmental education and interpretation.

The purpose of this notice is to achieve the following:

(1) Advise other agencies and the public of our intentions, and

(2) Obtain suggestions and information on the scope of issues to include in the environmental document.

DATES: Open house style meeting(s) will be held throughout the scoping phase of the comprehensive conservation plan development process. Special mailings, newspaper articles, and other media announcements will be used to inform the public and state and local government agencies of the opportunities for input throughout the planning process.

ADDRESSES: Address comments, questions, and requests for more information to Tina Chouinard, Natural Resource Planner, Central Louisiana National Wildlife Refuge Complex, 401 Island Road, Marksville, Louisiana 71351. To ensure consideration, written comments must be received within 45 days following the date of this notice.

SUPPLEMENTARY INFORMATION: Catahoula National Wildlife Refuge was established in 1958 primarily as a wintering area for migratory waterfowl. The refuge, in east-central LaSalle Parish and west-central Catahoula Parish, about 30 miles northeast of Alexandria and 12 miles east of Jena, now totals 25,162 acres. The 6,671-acre Headquarters Unit borders 9 miles of the northeast shore of Catahoula Lake, a 26,000-acre natural wetland renowned for its large concentrations of migratory waterfowl. The 18,491-acre Bushley Bayou Unit, located 8 miles west of Jonesville, was established in May 2001. The acquisition was made possible through a partnership agreement between The Conservation Fund, American Electric Power, and the Fish and Wildlife Service.

The refuge lies within a physiographic region known as the Lower Mississippi River Alluvia Valley. This valley was, at one time, a 25-million-acre forested wetland complex that extended along both sides of the Mississippi River from Illinois to Louisiana. Although the refuge was part of this very productive bottomland hardwood ecosystem, most of the forest on the refuge was cleared in the early 1970s for agriculture production.

FOR FURTHER INFORMATION CONTACT: Natural Resource Planner, Central Louisiana National Wildlife Refuge Complex, telephone: 318/253-4238; fax: 318/253-7139; e-mail: tina_chouinard@fws.gov.; or mail (write to the Natural Resource Planner at address in ADDRESSES section).

Authority: This notice is published under the authority of the National Wildlife Refuge System Improvement Act of 1997, Pub. L. 105-57.

Dated: January 28, 2005.
Cynthia K. Dohner,
Acting Regional Director.

[FR Doc. 05-4012 Filed 3-1-05; 8:45 am]

BILLING CODE 4310-55-M